DEPARTMENT OF DEFENSE

Department of the Navy

[Docket ID: USN-2012-0016]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: This proposed action will be effective on October 15, 2012 unless comments are received which result in a contrary determination. Comments will be accepted on or before October 15, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Department of the Navy, 2000 Navy Pentagon, Washington, DC 20350-2000, or by phone at (202) 685-6546.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on August 28, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 11, 2012.
Aaron Siegel,
Alternate OSD Federal Register Liaison Officer, Department of Defense.

N05813-1

System name:

Professional Responsibility/Ethics File (July 30, 1999, 64 FR 41401).

Changes:

Delete entry and replace with “N05800-2.”

System name:

Delete entry and replace with “Professional Responsibility Files.”

System location:

Delete entry and replace with “Office of the Judge Advocate General (Administrative Law) (Code 13), Department of the Navy, Washington Navy Yard, 1322 Patterson Avenue SE., Suite 3000, Washington, DC 20374-5066.

Office of the Chief Judge, Department of the Navy (Code 05) Washington Navy Yard, 1254 Charles Morris Street SE., Suite 320, Washington, DC 20374-5124.

Office of the Staff Judge Advocate to the Commandant of the Marine Corps, Headquarters United States Marine Corps, 3000 Marine Corps Pentagon (Room 4D556), Washington DC 20350-3000.”

Categories of individuals covered by the system:

Delete entry and replace with “Civilian attorneys (U.S. Government and non-U.S. Government) and U.S. Armed Forces judge advocates (Active-Duty, Reserve and retired) who have practiced, or are practicing, in proceedings, or who practice or perform legal services under the supervision and cognizance of the Judge Advocate General of the Navy (JAG).”

Categories of records in the system:

Delete entry and replace with “Full name, reports of investigation, correspondence, and court papers relating to professional responsibility/ethics complaints brought against attorneys; requests and related correspondence regarding the outside practice of law; documents related to the good standing certification requirements of attorneys.”

Authority for maintenance of the system:

Delete entry and replace with “5 U.S.C. 301, Departmental regulations; 10 U.S.C. 806, Judge advocates and legal officers; 10 U.S.C. 826, Military judge of a general or special court-martial; 10 U.S.C. 827, Detail of trial counsel and defense counsel; 10 U.S.C. 1044, Legal Assistance; 32 CFR Part 776, Professional Conduct of Attorneys Practicing Under the Cognizance and Supervision of the Judge Advocate General; Manual for Courts-Martial (MCM), Part II of the MCM, Rule for Courts-Martial, Part II Rule 109 of the MCM, Professional supervision of military judges and counsel; and Judge Advocate General Instruction 5803.1C, Professional Conduct of Attorneys Practicing Under the Cognizance and Supervision of the Judge Advocate General.”

Purpose(s):

Delete entry and replace with “To record the disposition of professional responsibility/ethics complaints; to provide a record of individual lawyers who are restricted or suspended from practice as attorneys, before courts-martial or other proceedings conducted under the Uniform Code of Military Justice (UCMJ), or in Navy and Marine Corps administrative proceedings, or as legal assistance attorneys, or in any other matter under JAG cognizance; to document professional responsibility/ethics violations and corrective action taken; and to provide a record of all outside practice of law requests.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

To attorney licensing and/or disciplinary authorities as required to support professional responsibility investigations and proceedings.

The DoD Blanket Routine Uses that appear at the beginning of the Navy's compilation of system of records notices may apply to this system.”

* * * * *

Storage:

Delete entry and replace with “Paper file folders and electronic storage media.”

* * * * *

Retention and disposal:

Delete entry and replace with “Permanent. Records are retired to Washington National Records Center (WNRC) when 4 years old and transferred to National Archives and Records Administration (NARA) when 20 years old. Files with historical information required on a continuing basis may be retained as long as necessary before being retired to WNRC.”

System manager(s) and address:

Delete entry and replace with “Assistant Judge Advocate General (Civil Law), Office of the Judge Advocate General, Department of the Navy, Washington Navy Yard, 1322 Patterson Avenue SE., Suite 3000, Washington, DC 20374-5066.

Office of the Chief Judge, Department of the Navy (Code 05) Washington Navy Yard, 1254 Charles Morris Street SE., Suite 320, Washington, DC 20374-5124.

Office of the Staff Judge Advocate to the Commandant of the Marine Corps, Headquarters United States Marine Corps, 3000 Marine Corps Pentagon (Room 4D556), Washington DC 20350-3000.”

Notification procedure:

Delete entry and replace with “Individuals seeking to determine whether this system contains information about themselves should address written inquiries to the following offices, as appropriate:

For judicial conduct matters: Office of the Chief Judge, Department of the Navy (Code 05), Washington Navy Yard, 1254 Charles Morris Street SE., Suite 320, Washington, DC 20374-5124.

For Marine matters (not involving judicial conduct): Research and Civil Law Branch, Judge Advocate Division, HQMC (JAR), Office of the Staff Judge Advocate to the Commandant of the Marine Corps, Headquarters United States Marine Corps, 3000 Marine Corps Pentagon (Room 4D556), Washington, DC 20350-3000.

For all other matters: Deputy Assistant Judge Advocate General (Administrative Law) (Code 13), Office of the Judge Advocate General, Department of the Navy, 1322 Patterson Avenue SE., Suite 3000, Washington, DC 20374-5066.

Written request should include the full name of the individual concerned and must be signed. The system manager will require a notarized signature as a means of proving the identity of the individual requesting access to records.”

Record access procedures:

Delete entry and replace with “Individuals seeking access to information about themselves contained in this system should address written inquiries to the following offices, as appropriate:

For judicial conduct matters: Office of the Chief Judge, Department of the Navy (Code 05), Washington Navy Yard, 1254 Charles Morris Street SE., Suite 320, Washington, DC 20374-5124.

For Marine matters (not involving judicial conduct): Research and Civil Law Branch, Judge Advocate Division, HQMC (JAR), Office of the Staff Judge Advocate to the Commandant of the Marine Corps, Headquarters United States Marine Corps, 3000 Marine Corps Pentagon (Room 4D556), Washington, DC 20350-3000.

For all other matters: Deputy Assistant Judge Advocate General (Administrative Law) (Code 13), Office of the Judge Advocate General, Department of the Navy, 1322 Patterson Avenue SE., Suite 3000, Washington, DC 20374-5066.

Written request should include the full name of the individual concerned and must be signed. The system manager will require a notarized signature as a means of proving the identity of the individual requesting access to records.”

Contesting record procedures:

Delete entry and replace with “The Department of the Navy's rules for accessing records, and for contesting contents and appealing initial agency determinations are published in Secretary of the Navy Instruction 5211.5; 32 CFR part 701; or may be obtained from the system manager.”

Record source categories:

Delete entry and replace with “Correspondence from individuals, military judges, staff judge advocates, and other military personnel; correspondence from the Judge Advocate Generals of other branches of the Armed Forces; investigative reports from Naval Criminal Investigative Service other law enforcement agencies; and those appointed Investigating Officer by the Judge Advocate General of the Navy or the Navy JAGC Rules Counsel, correspondence from military or civilian attorney licensing authorities; and copies of court papers.”

Exemptions claimed for the system:

Delete entry and replace with “Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with the requirements of 5 U.S.C. 553(b)(1), (2), and (3), (c) and (e) and published in 32 CFR part 701, subpart G. For additional information, contact the system manager.”

[FR Doc. 2012-22689 Filed 9-13-12; 8:45 am]

BILLING CODE 5001-06-P